DEPARTMENT OF COMMERCE

National Oceanic and Atmospheric Administration

Release of the Draft 2015 Edition of the U.S. Arctic Nautical Charting Plan

AGENCY: Office of Coast Survey, National Ocean Service, National Oceanic and Atmospheric Administration (NOAA), Department of Commerce.

ACTION: Request for comments.

SUMMARY: The NOAA Office of Coast Survey has released a draft of the 2015 edition of the U.S. Arctic Nautical Charting Plan. The plan provides information about three topics: NOAA electronic navigational chart (NOAA ENC®) coverage in U.S. Arctic waters, progress on publishing new Arctic charts, and specifications for eleven proposed new charts. The primary purpose of the plan is to propose new chart coverage in the U.S. Arctic and to encourage feedback from stakeholders on the extent, scale, and other aspects of the proposed new coverage. Coast Survey invites written comments about this latest edition which is available from http://nauticalcharts.noaa.gov/arcticplan.

DATES: Comments are due by midnight, October 1, 2015.

ADDRESSES: Mail written comments to National Ocean Service, NOAA (N/CS2), Attention: U.S. Arctic Nautical Charting Plan, 1315 East-West Highway Silver Spring, MD 20910-3282. See SUPPLEMENTARY INFORMATION section for how to comment electronically.

FOR FURTHER INFORMATION CONTACT: Colby Harmon, telephone 301-713-2737, ext.187; email: colby.harmon@noaa.gov.

SUPPLEMENTARY INFORMATION: You are invited to comment on the U.S. Arctic Nautical Charting Plan through NOAA's Nautical Discrepancy Report System at http://ocsdata.ncd.noaa.gov/idrs/discrepancy.aspx. In the “OTHER PRODUCTS” box, enter “U.S. Arctic Nautical Charting Plan.” Enter your comments, suggestions, or questions in the “DESCRIPTION OF DISCREPANCY” box.

For the first time, the U.S. Arctic Nautical Charting Plan provides information about existing, recently added, and proposed new electronic navigational chart (ENC) coverage in U.S. Arctic waters. A series of graphics depicts the existing extent of different usage (or scale) bands of ENC coverage. Recently added and proposed new ENC coverage is based on existing or proposed raster (traditional paper) chart footprints, although the final extent and display scale of the ENCs may vary slightly from their corresponding raster chart counterparts. NOAA will soon close a significant gap in small-scale ENC coverage and is adding new large-scale Arctic ENC cells.

Coast Survey released the first edition of the U.S. Arctic Nautical Charting Plan in 2011. Three of the raster charts identified in the original plan have now been published. Two of these have large-scale insets. The “Progress Report” section of the plan details these charts and provides links to an online viewer for these charts.

Coast Survey's plan recommends making 11 new charts in the Arctic to complement existing chart coverage. Seven of the charts will fill gaps in medium-scale chart coverage from the Alaska Peninsula to Cape Lisburne at the edge of the North Slope. Other larger scale charts will provide for safer passage though the Etolin and Bering Straits and for entry into harbors such as Barrow, the northernmost town in the United States. The “Proposed New Raster Charts” section of the plan provides detailed specifications for each of the proposed new charts. The specifications include scale, geographic extent, an image of the chart footprint, and other information.

Authority: 33 U.S.C. Chapter 17, Coast and Geodetic Survey Act of 1947.

Dated: June 22, 2015.
Rear Admiral Gerd Glang,
Director, Office of Coast Survey, National Ocean Service, National Oceanic and Atmospheric Administration.

[FR Doc. 2015-17243 Filed 7-13-15; 8:45 am]

BILLING CODE 3510-22-P